DEPARTMENT OF COMMERCE

Submission for OMB Review; Comment Request

The Department of Commerce will submit to the Office of Management and Budget (OMB) for clearance the following proposal for collection of information under the emergency provisions of the Paperwork Reduction Act (44 U.S.C. Chapter 35).

Agency: National Telecommunications and Information Administration (NTIA).

Title: State and Local Implementation Grant Program Application Requirements.

OMB Control Number: None.

Form Number(s): None.

Type of Request: Emergency submission (new information collection).

Number of Respondents: 56.

Average Hours per Response: Application, 10 hours; Quarterly report, 4 hours.

Burden Hours: 1,456.

Needs and Uses: The Middle Class Tax Relief and Job Creation Act of 2012 (Act, Pub. L. 112-96, 126 Stat. 156 (2012).) was signed by the President on February 22, 2012. The Act meets a long-standing priority of the Administration, as well as a critical national infrastructure need, to create a single, nationwide interoperable public safety broadband network (PSBN) that will, for the first time, allow police officers, fire fighters, emergency medical service professionals, and other public safety officials to effectively communicate with each other across agencies and jurisdictions. Public safety workers have long been hindered in their ability to respond in a crisis situation because of incompatible communications networks and often outdated communications equipment.

The Act establishes the First Responder Network Authority (FirstNet) as an independent authority within National Telecommunications and Information Administration (NTIA) and authorizes it to take all actions necessary to ensure the design, construction, and operation of a nationwide PSBN, based on a single, national network architecture.

The Act also charges NTIA with establishing a grant program to assist state, regional, tribal, and local jurisdictions with identifying, planning, and implementing the most efficient and effective means to use and integrate the infrastructure, equipment, and other architecture associated with the nationwide PSBN to satisfy the wireless broadband and data services needs of their jurisdictions. NTIA will use the collection of information to ensure that States applying for SLIGP grants meet eligibility and programmatic requirements as well as to monitor and evaluate how SLIGP recipients are achieving the core purposes of the program established by the Act.

NTIA is seeking to emergency review of the SLIGP request to begin the application process in the first quarter of calendar year 2013 and award grants no later than June 1, 2013. In order to meet this deadline, NTIA must receive clearance for the application and reporting requirements by December 31, 2012 in order to: (1) Ensure applicants have reasonable notice of the federal funding opportunity; (2) provide applicants sufficient time to complete and submit their applications; and (3) allow NTIA adequate time to properly execute the application review process and make the awards.

Affected Public: Business or other for-profit organizations.

Frequency: Annually and quarterly.

Respondent's Obligation:

OMB Desk Officer: Nicholas Fraser, (202) 395-5887.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent by January 7, 2013 to Nicholas Fraser, OMB Desk Officer, FAX number (202) 395-7285, or via the Internet at Nicholas_A._Fraser@omb.eop.gov.

Dated: December 21, 2012.
Gwellnar Banks,
Management Analyst, Office of the Chief Information Officer.

[FR Doc. 2012-31226 Filed 12-28-12; 8:45 am]

BILLING CODE 3510-06-P